DEPARTMENT OF ENERGY

Federal Energy Regulatory Commission

[Docket No. RP00-329-003]

Great Lakes Gas Transmission Limited Partnership; Notice of Compiance Filing

December 26, 2002.

Take notice that on December 23, 2002, Great Lakes Gas Transmission Limited Partnership (Great Lakes) tendered for filing as part of its FERC Gas Tariff, Second Revised Volume No. 1 the following tariff sheets, proposed to be effective October 1, 2002:

Substitute First Revised Sheet No. 14A.

Substitute First Revised Sheet No. 15.

Substitute Fourth Revised Sheet No. 39A.

Substitute First Revised Sheet No. 39B.

Seventh Revised Sheet No. 40A.

Great Lakes states that these tariff sheets are being filed in compliance with the Commission's November 21, 2002 Order on Clarification and Rehearing in Docket No. RP00-329-002 (November 21 Order), wherein the Commission denied rehearing and clarified that shippers may add or change to primary points within the zones for which they are paying, to the extent there is available capacity. Great Lakes was directed to file revised tariff sheets within thirty (30) days of the November 21 Order consistent with the modifications set forth in that Order. The tariff sheets included in this compliance tariff filing reflect those required modifications.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 6, 2003.

Linwood A. Watson, Jr.,
Deputy Secretary.

[FR Doc. 02-33059 Filed 12-31-02; 8:45 am]

BILLING CODE 6717-01-P